DEPARTMENT OF VETERANS AFFAIRS

[OMB Control No. 2900-0677]

Agency Information Collection Activity Under OMB Review: Contract for Training and Employment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0677.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0677” in any correspondence.

SUPPLEMENTARY INFORMATION:

Authority: 38 U.S.C. 501(a) and 38 U.S.C. 3104.

Title: Contract for Training and Employment (chapter 31, title 38, U.S. Code), 38 U.S.C. 501(a), 38 U.S.C. 3104.

OMB Control Number: 2900-0677.

Type of Review: Revision of a currently approved collection.

Abstract: VA Form 28-1903 is used to gather the necessary information to develop formal training agreements with an institution, training establishment, or employer for training and rehabilitation under 38 U.S.C. chapter 31. Additionally, the information is used to authorize a claimant's participation in a program with a training vendor or facility under 38 U.S.C. 3104.

An agency may not conduct or sponsor, and a person is not required to respond to a collection of information unless it displays a currently valid OMB control number. The Federal Register Notice with a 60-day comment period soliciting comments on this collection of information was published at insert citation date: 89 FR 15633, on March 4, 2024, page 15633.

Affected Public: Individuals and households.

Estimated Annual Burden: 1000 hours.

Estimated Average Burden Per Respondent: 60 minutes.

Frequency of Response: 1.

Estimated Number of Respondents: 1000.

By direction of the Secretary:
Maribel Aponte,
VA PRA Clearance Officer, Office of Enterprise and Integration, Data Governance Analytics, Department of Veterans Affairs.

[FR Doc. 2024-10284 Filed 5-10-24; 8:45 am]

BILLING CODE 8320-01-P